DEPARTMENT OF ENERGY

Federal Energy Regulatory Commission

[Docket No. RP02-347-000]

Williston Basin Interstate Pipeline Company; Notice of Tariff Filing

June 6, 2002.

Take notice that on May 31, 2002, Williston Basin Interstate Pipeline Company (Williston Basin), tendered for filing as part of its FERC Gas Tariff, Second Revised Volume No. 1, the following revised tariff sheets to become effective July 1, 2002:

First Revised Sheet No. 162

Original Sheet No. 162A

Williston Basin is proposing to revise the provisions of Rate Schedule PAL-1, Park and Loan Service.

Williston Basin states that it has added a new provision to Rate Schedule PAL-1 to allow shippers to nominate a parked quantity to Williston Basin's aggregate storage pursuant to Shipper's executed Transportation Service Agreement and executed Storage Service Agreement. ‘ Williston Basin also states it is allowing the negotiation of a specific discount rate for transport of parked quantities from an initial PAL point to another PAL point or from a receipt point on Williston Basin’s system to clear a loaned quantity at a PAL point.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14885 Filed 6-12-02; 8:45 am]

BILLING CODE 6717-01-P